DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Logbook and Activity Family of Forms.

OMB Control Number: 0648-0213.

Form Number(s): None.

Type of Request: Regular (extension of a currently approved information collection).

Number of Respondents: 445.

Average Hours per Response: 35 minutes per active response and 5 minutes per inactive response for Catcher Vessel Longline and Pot Gear DFL; 18 minutes for active response and 5 minutes for inactive response for Catcher Vessel Trawl Gear DFL; 7 minutes for Mothership Check-in/Check-out Report; 50 minutes per active response and 5 minutes per inactive response for Catcher/processor Longline and Pot Gear DCPL; 5 minutes for Shoreside Processor Check-in/Check-out Report; 20 minutes for Product Transfer Report; 14 minutes for Vessel Activity Report.

Burden Hours: 15,654.

Needs and Uses: This request is for extension of a currently approved information collection.

The Magnuson-Stevens Fishery Conservation and Management Act 16 U.S.C. 1801 et seq. authorizes the North Pacific Fishery Management Council to prepare and amend fishery management plans for any fishery in waters under its jurisdiction. National Marine Fisheries Service, Alaska Region (NMFS) manages (1) the crab fisheries in the Exclusive Economic Zone waters off the coast of Alaska under the Fishery Management Plan for Bering Sea and Aleutian Islands Crab, (2) groundfish under the Fishery Management Plan for the Groundfish of the Bering Sea and Aleutian Islands Management Area, and (3) groundfish under the Fishery Management Plan for Groundfish of the Gulf of Alaska. The International Pacific Halibut Commission (IPHC) and NMFS manage fishing for Pacific halibut (Hippoglossus stenolepis) through regulations established under the authority of the Northern Pacific Halibut Act of 1982. The IPHC promulgates regulations governing the halibut fishery under the Convention between the United States and Canada for the Preservation of the Halibut Fishery of the Northern Pacific Ocean and Bering Sea.

Vessels required to have a Federal Fisheries Permit are issued free daily fishing logbooks (DFLs) for harvesters and daily cumulative production logbooks (DCPL) for processors to record groundfish, Crab Rationalization Program crab, Individual Fishing Quota (IFQ) halibut, IFQ sablefish, Western Alaska Community Development Quota Program halibut, and prohibited species catch information. Catcher vessels under 60 ft (18.3 m) length overall are not required to maintain DFLs. Multiple self-copy logsheets within each logbook are available for distribution to the harvester, processor, observer program, and NOAA Office for Law Enforcement. The longline or pot gear logbooks have an additional logsheet for submittal to the IPHC.

As electronic logbooks become available, paper logbooks are discontinued and removed from this collection. The forms and DFL and DCPL logsheets may be viewed on the NMFS Alaska Region Home Page at https://alaskafisheries.noaa.gov/fisheries/rr-log.

In addition to the logbooks, this collection includes the check-in/check-out reports for shoreside processors and motherships, the product transfer report, and the U.S. vessel activity report.

Affected Public: Business or other for-profit organizations; individuals or households.

Frequency: Daily.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: February 21, 2018.
Sarah Brabson,
NOAA PRA Clearance Officer.

[FR Doc. 2018-03876 Filed 2-26-18; 8:45 am]

BILLING CODE 3510-22-P